DEPARTMENT OF TRANSPORTATION

Federal Aviation Administration

14 CFR Part 21

Airworthiness Design Standards Under the Primary Category Rule; Cubcrafters, Inc., Model PC18-160

AGENCY: Federal Aviation Administration (FAA), DOT.

ACTION: Issuance of Final Airworthiness Design Standards.

SUMMARY: This notice announces the issuance of airworthiness design standards for acceptance of the Cubcrafters, Inc., Model PC18-160 airplane under 14 CFR, part 21, § 21.17(f). Designation of applicable regulations: For primary category aircraft.

DATES: This Final Airworthiness Design Standard is effective April 9, 2008.

FOR FURTHER INFORMATION CONTACT: Mr. Leslie B. Taylor, Aerospace Engineer, Standards Office (ACE-111), Small Airplane Directorate, Aircraft Certification Service, FAA; telephone number (816) 329-4134, fax number (816) 329-4090, e-mail at leslie.b.taylor@faa.gov.

SUPPLEMENTARY INFORMATION: Any person may obtain a copy of this information by contacting the person named above under FOR FURTHER INFORMATION CONTACT.

Comments

The proposed airworthiness design standards were offered for comment in Federal Register Volume 73, No. 14, Page 3655 on January 22, 2008. No comments were received and the proposed airworthiness design standards were adopted.

Background

The “primary” category for aircraft was created specifically for the simple, low performance personal aircraft. A means for applicants to propose airworthiness standards for their particular primary category aircraft is provided under 14 CFR, part 21, § 21.17(f). The FAA procedure establishing appropriate airworthiness standards includes reviewing and possibly revising the applicant's proposal, publication of the submittal in the Federal Register for public review and comment, and addressing the comments. After all necessary revisions, the standards are published as approved FAA airworthiness standards.

Accordingly, the FAA adopts the following airworthiness standards as final.

Citation

The authority citation for these airworthiness standards is as follows:

Authority: 49 U.S.C. 106(g), 40113 and 44701.

Final Airworthiness Standards for Acceptance of the Cubcrafters Model PC18-160 Under the Primary Category Rule

The certification basis for the Cubcrafters, Inc., Model PC18-160 is the Primary Category Rule (part 21, § 21.24) with Amendment 23-57 for 14 CFR, part 23, §§ 23.853(a); 23.863; 23.1303(a), (b), and (c); 23.1311(a)(1) through (a)(4), and (b); 23.1321; 23.1322; 23.1329 and 23.1359 and:

Airframe and Systems

ASTM F2245-07, “Standard Specification for Design and Performance of a Light Sport Airplane,” modified as follows:

1. Federal Aviation Regulations 23 Loads Report and Test Proposal to be reviewed and approved by the Seattle Aircraft Certification Office (ACO). Specifically, Section 5 of ASTM F2245-07 is replaced by Federal Aviation Regulations part 23, §§ 23.301 through 23.561 (latest amendments through Amendment 23-55) as applicable to this airplane.

2. All major structural components will be tested as per the approved Test Proposal (this eliminates “analysis” allowed by ASTM).

3. Paragraph 4.2.1 of ASTM F2245-07 is replaced by Federal Aviation Regulations part 23, § 23.25(b) except that the empty weight referred to in Federal Aviation Regulations part 23, § 23.25(b)(1) is replaced by the maximum empty weight defined in Paragraph 3.1.2 of ASTM F2245-07.

Engine

The engine may or may not have its own type certificate. If the engine does not have its own type certificate, it will be included in the airplane type certificate using the following as a proposed certification basis:

1. ASTM F2339-06, “Standard Practice for Design and Manufacture of Reciprocating Spark Ignition Engines for Light Sport Aircraft,” modified as follows: Engine parts and assemblies will be manufactured under the purview of a production certificate held by the applicant. Section 7 of ASTM F2339-06 does not apply.

2. Optionally, the applicant may elect to use a type certificated engine up to 180 horsepower.

Propeller

A type certificated propeller will be used.

In addition to the applicable airworthiness regulations, the PC18-160 must comply with the fuel vent and exhaust emission requirements of 14 CFR part 34 and the noise certification requirements of 14 CFR part 36; and the FAA must issue a finding of regulatory adequacy pursuant to § 611 of Public Law 92-574, the “Noise Control Act of 1972.”

Issued in Kansas City, Missouri on April 9, 2008.
Kim Smith,
Manager, Small Airplane Directorate, Aircraft Certification Service.

[FR Doc. E8-9863 Filed 5-2-08; 8:45 am]

BILLING CODE 4910-13-P